DEPARTMENT OF COMMERCE

National Oceanic and Atmospheric Administration

50 CFR Part 622

[Docket No. 040205043-4043-01]

RIN 0648-XP56

Fisheries of the Caribbean, Gulf of Mexico, and South Atlantic; Reef Fish Fishery of the Gulf of Mexico; Closure of the 2009 Commercial Harvest of Gulf of Mexico Greater Amberjack

AGENCY: National Marine Fisheries Service (NMFS), National Oceanic and Atmospheric Administration (NOAA), Commerce.

ACTION: Temporary rule; closure.

SUMMARY: NMFS closes commercial harvest of greater amberjack in the exclusive economic zone (EEZ) of the Gulf of Mexico (Gulf). NMFS has determined that the commercial greater amberjack quota will have been reached by November 7, 2009. This closure is necessary to prevent overfishing of Gulf greater amberjack.

DATES: Closure is effective 12:01 a.m., local time, November 7, 2009, until 12:01 a.m., local time, on January 1, 2010.

FOR FURTHER INFORMATION CONTACT: Catherine Bruger, telephone 727-551-5727, fax 727-824-5308, e-mail Catherine.Bruger@noaa.gov.

SUPPLEMENTARY INFORMATION: The reef fish fishery of the Gulf of Mexico is managed under the Fishery Management Plan for the Reef Fish Resources of the Gulf of Mexico (FMP). The FMP was prepared by the Gulf of Mexico Fishery Management Council and is implemented under the authority of the Magnuson-Stevens Fishery Conservation and Management Act (Magnuson-Stevens Act) by regulations at 50 CFR part 622. Those regulations set the commercial quota for greater amberjack in the Gulf at 503,000 lb (228,157 kg), round weight for the current fishing year, January 1 through December 31, 2009.

Background

Constraining harvest to the quota is crucial to meeting the legal requirements to prevent and end overfishing and rebuild greater amberjack in the Gulf. On August 4, 2008, new fishing regulations were implemented by NMFS (73 FR 38139) to reduce the harvest and discard of greater amberjack in the Gulf reef fish fishery. Regulatory changes for commercial greater amberjack included implementing a quota of 503,000 lb (228,157 kg), round weight and accountability measures.

Under 50 CFR 622.43(a), NMFS is required to close harvest for a species or species group when the quota for that species or species group is reached, or is projected to be reached, by filing a notification to that effect with the Office of the Federal Register. Based on current statistics, NMFS has determined that the available commercial quota of 503,000 lb (228,157 kg), round weight for greater amberjack will be reached on or before November 7, 2009. Accordingly, NMFS is closing commercial harvest of greater amberjack in the Gulf EEZ from 12:01 a.m., local time, on November 7, 2009, until 12:01 a.m., local time, on January 1, 2010. The operator of a vessel with a valid commercial vessel permit for Gulf reef fish having greater amberjack aboard must have landed and bartered, traded, or sold such greater amberjack prior to 12:01 a.m., local time, November 7, 2009.

During the closure, all harvest or possession of greater amberjack in or from the Gulf of Mexico EEZ, and the sale or purchase of greater amberjack taken from the EEZ is prohibited.The recreational harvest of greater amberjack in the Gulf closed on October 24, 2009 (74 FR 54489), and will remain closed through December 31, 2009. The prohibition on sale or purchase does not apply to sale or purchase of greater amberjack that were harvested, landed ashore, and sold prior to 12:01 a.m., local time, November 7, 2009, and were held in cold storage by a dealer or processor. In addition to the Gulf EEZ closure, a person on board a vessel for which a commercial vessel permit for Gulf reef fish has been issued must comply with these closure provisions regardless of where the Gulf greater amberjack are harvested, i.e., in state or Federal waters. This closure is intended to prevent overfishing of Gulf greater amberjack and increase the likelihood that the 2009 quota will not be exceeded.

Classification

This action responds to the best available information recently obtained from the fishery. The Assistant Administrator for Fisheries, NOAA, (AA), finds good cause to waive the requirement to provide prior notice and opportunity for public comment pursuant to the authority set forth at 5 U.S.C. 553(b)(3)(B). Such procedures would be unnecessary because the rule implementing the quota and the associated requirement for closure of commercial harvest when the quota is reached or projected to be reached already has been subject to notice and comment, and all that remains is to notify the public of the closure.

Providing prior notice and opportunity for public comment on this action would be contrary to the public interest because any delay in the closure of commercial harvest could result in the commercial quota for greater amberjack being exceeded would trigger the accountability measure for greater amberjack. The accountability measure would require NMFS to reduce the quota for the following year by the amount of the quota overage from the prior fishing year. Reducing the quota the following year would produce additional adverse economic impacts for Gulf reef fish fishermen.

For the aforementioned reasons, the AA also finds good cause to waive the 30-day delay in the effectiveness of this action under 5 U.S.C. 553(d)(3).

This action is taken under 50 CFR 622.43(a) and is exempt from review under Executive Order 12866.

Authority: 16 U.S.C. 1801 et seq.

Dated: November 02, 2009.
Emily H. Menashes,
Acting Director, Office of Sustainable Fisheries, National Marine Fisheries Service.

[FR Doc. E9-26699 Filed 11-2-09; 4:15 pm]

BILLING CODE 3510-22-S